DEPARTMENT OF EDUCATION

[Catalog of Federal Domestic Assistance (CFDA) Number: 84.184C]

Reopening; Applications for New Awards; Promoting Student Resilience

AGENCY: Office of Elementary and Secondary Education, Department of Education.

ACTION: Notice.

SUMMARY: On June 23, 2016, we published in the Federal Register (81 FR 40877) a notice inviting applications (NIA) for the Promoting Student Resilience fiscal year (FY) 2016 competition. The NIA established a deadline date of July 25, 2016, for the transmittal of applications. This notice reopens the competition until August 19, 2016.

DATES: Deadline for Transmittal of Applications: August 19, 2016.

SUPPLEMENTARY INFORMATION: We are reopening this competition in order to allow applicants more time to prepare and submit their applications.

Note: All information in the NIA for this competition remains the same, except for the deadline for the transmittal of applications.

Program Authority: 20 U.S.C. 7131, and Title III of Division H of the Consolidated Appropriations Act, 2016 (Pub. L. 114-113).

FOR FURTHER INFORMATION CONTACT: Deirdra Hilliard, U.S. Department of Education, 400 Maryland Avenue SW., Room 3E-249, Washington, DC 20202-6450. Telephone: (202) 453-6726 or by email: deirdra.hilliard@ed.gov.

If you use a telecommunications device for the deaf or a text telephone, call the Federal Relay Service, toll free, at 1-800-877-8339.

Accessible Format: Individuals with disabilities can obtain this document and a copy of the application package in an accessible format (e.g., braille, large print, audiotape, or compact disc) on request to the program contact person listed under FOR FURTHER INFORMATION CONTACT in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: August 9, 2016.
Ann Whalen,
Senior Advisor to the Secretary Delegated the Duties of Assistant Secretary for Elementary and Secondary Education.

[FR Doc. 2016-19254 Filed 8-11-16; 8:45 am]

BILLING CODE 4000-01-P